DEPARTMENT OF AGRICULTURE

Forest Service

Del Norte Resource Advisory Committee (RAC)

AGENCY: Forest Service, USDA.

ACTION: Notice of meeting.

SUMMARY: The Del Norte Resource Advisory Committee (RAC) will meet in Crescent City, California. The committee meeting is authorized under the Secure Rural Schools and Community Self-Determination (SRS) Act (Pub. L. 110-343) and in compliance with the Federal Advisory Committee Act.

DATES: The meeting will be held August 31, 2010, from 6 p.m. to 8:30 p.m.

ADDRESSES: The meeting will be held at the Del Norte County Unified School District, Board Room, 301 West Washington Boulevard, Crescent City, California 95531.

FOR FURTHER INFORMATION CONTACT: Julie Ranieri, Committee Coordinator, Six Rivers National Forest, at (707) 441-3673; e-mail jranieri@fs.fed.us.

SUPPLEMENTARY INFORMATION: The meeting is open to the public. Agenda items to be covered include: (1) Review of Title II project proposals submitted, (2) schedule meetings for public presentations of project proposals, and (3) discuss how members will vote. Public input opportunity will be provided and individuals will have the opportunity to address the Committee at that time.

Dated: July 27, 2010.
Tyrone Kelley,
Forest Supervisor.

[FR Doc. 2010-19203 Filed 8-4-10; 8:45 am]

BILLING CODE P